DEPARTMENT OF LABOR

Employment and Training Administration

Proposed Information Collection Request Submitted for Public Comment and Recommendations; Attestations by Employers Using Alien Crewmembers for Longshore Activities in U.S. Ports

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed.

DATES: Submit comments on or before June 21, 2004.

ADDRESSES: Send comments to William L. Carlson, Chief, Division of Foreign Labor Certification, U.S. Department of Labor, 200 Constitution Avenue, NW., Room C-4312, Washington, DC 20210, (202) 693-3010 (this is not a toll-free number).

FOR FURTHER INFORMATION CONTACT: William L. Carlson, Chief, Division of Foreign Labor Certification, U.S. Department of Labor, 200 Constitution Avenue, NW., Room C-4312, Washington, DC 20210, (202) 693-3010 (this is not a toll-free number).

SUPPLEMENTARY INFORMATION:

I. Background

The information collection is required by amendments to section 258 of the Immigration and Nationality Act (INA) (8 U.S.C. 1101 et seq.) The amendments created a prevailing practice exception to the general prohibition on the performance of longshore work by alien crewmembers in U.S. ports. Under the prevailing practice exception, before any employer may use alien crewmembers to perform longshore activities in U.S. ports, it must submit an attestation to the Employment and Training Administration (ETA) containing the elements prescribed by the INA.

The INA further requires that the Department make available for public examination in Washington, DC, a list of employers that have filed attestations, and for each of these employers, a copy of the employer's attestation and accompanying documentation received by the Department.

II. Desired Focus of Comments

Currently, the Department is soliciting comments concerning the proposed extension of an existing collection of information pertaining to employers' seeking to use alien crewmembers to perform longshore activities in U.S. ports. The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collections techniques or other forms of information, e.g., permitting electronic submissions of responses.

A copy of the proposed information collection request (ICR) can be obtained by contacting the office listed above in the addressee section of this notice.

III. Current Actions

In order to meet its statutory responsibilities under the INA, the Department needs to extend an existing collection of information pertaining to employers seeking to use alien crewmembers to perform longshore activities in U.S. ports.

Because the prevailing practice exception remains in the statute, ETA is requesting a one-hour marker as a place holder for this collection of information. ETA has not received any attestations under the prevailing practice exception within the last three years. An information collection request will be submitted to increase the burden should activities recommence.

Type of Review: Extension.

Agency: Employment and Training Administration.

Title: Attestations by Employers Using Alien Crewmembers for Longshore Activities in U.S. Ports.

OMB Number: 1205-0309.

Affected Public: Businesses or other for-profit.

Form: Form ETA 9033.

Total Respondents: 1.

Frequency of Response: On occasion.

Total Responses: 1.

Average Burden Hours Per Response: 4.

Estimate Total Burden Hours: 4.

Total Burden Cost: 0.

Comments submitted in response to this notice will be summarized and/or included in the request for Office of Management and Budget approval of the ICR; they will also become a matter of public record.

Dated: April 14, 2004.
Emily Stover DeRocco,
Assistant Secretary, Employment and Training Administration.

[FR Doc. 04-8993 Filed 4-20-04; 8:45 am]

BILLING CODE 4510-30-P